DEPARTMENT OF ENERGY

Federal Energy Regulatory Commission

[Docket No. CP02-32-002]

Texas Eastern Transmission, LP; Notice of Compliance Filing

October 22, 2002.

Take notice that on October 1, 2002, Texas Eastern Transmission, LP (Texas Eastern) tendered for filing as part of its FERC Gas Tariff, Seventh Revised Volume No. 1 (“Tariff”), the tariff sheets listed in Appendix A of the filing proposed to be effective on November 1, 2002.

Texas Eastern states that the purpose of this filing is to comply with Ordering Paragraph (B) of the Commission's Order Issuing Certificate issued June 28, 2002, in Docket No. CP02-32-000 (“June 28 Order”). Texas Eastern states that the tariff sheets listed in Appendix A establish the maximum recourse rate and the related negotiated rate for service on Texas Eastern's TIME Project facilities, as required by the June 28 Order, and incorporate references to the new incremental TIME service into Rate Schedule FT-1 and the General Terms and Conditions of the Tariff, including the reference in Section 3 of Rate Schedule FT-1 specifically required by the Commission in Ordering Paragraph (B)(4) of the June 28 Order.

Texas Eastern states that copies of its filing have been mailed to all affected customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's website at http://www.ferc.gov using the “FERRIS” link. Enter the docket number excluding the last three digits in the docket number field to access the document. For Assistance, call (202)502-8222 or for TTY, (202) 502-8659.

Comments, protests and interventions may be filed electronically via the Internet in lieu of paper. The Commission strongly encourages electronic filings. See, 18 CFR 385.2001(a)(1)(iii) and the instructions on the Commission's web site under the “e-Filing” link.

Linwood A. Watson, Jr.,
Deputy Secretary.

[FR Doc. 02-27448 Filed 10-28-02; 8:45 am]

BILLING CODE 6717-01-P